DEPARTMENT OF HEALTH AND HUMAN SERVICES

Centers for Medicare & Medicaid Services

42 CFR Parts 405, 410, 411, 414, 415, and 424

CMS-1321-CN

RIN 0938-AN84

Medicare Program; Revisions to Payment Policies, Five-Year Review of Work Relative Value Units, and Changes to the Practice Expense Methodology Under the Physician Fee Schedule, and Other Changes to Payment Under Part B; Corrections

AGENCY: Centers for Medicare & Medicaid Services (CMS), HHS.

ACTION: Correction.

SUMMARY: This correction document corrects a limited number of technical and typographical errors in the final rule with comment period that appeared in the December 1, 2006 Federal Register (71 FR 69624). The final rule with comment period addressed Medicare Part B payment policy, including the physician fee schedule (PFS) that is applicable for calendar year (CY) 2007, finalized the CY 2006 interim relative value units (RVUs), and established interim RVUs for new and revised procedure codes for CY 2007.

EFFECTIVE DATE: This correction notice is effective January 1, 2007.

FOR FURTHER INFORMATION CONTACT: Diane Milstead, (410) 786-3355.

SUPPLEMENTARY INFORMATION:

I. Background

In FR Doc. 06-9086 (71 FR 69624), the final rule with comment period entitled “Medicare Program; Revisions to Payment Policies, Five-Year Review of Work Relative Value Units, and Changes to the Practice Expense Methodology Under the Physician Fee Schedule, and Other Changes to Payment Under Part B; Revisions to the Payment Policies of Ambulance Services Under the Fee Schedule for Ambulance Services; Ambulance Inflation Factor Update for CY 2007” (hereinafter referred to as the CY 2007 final rule with comment period), there were technical and typographical errors that are identified and corrected in this correction notice. The provisions of this correction notice are effective January 1, 2007.

II. Summary of Errors

A. Preamble

In the preamble of the CY 2007 final rule with comment period, there were a number of technical errors and omissions.

On page 69634, in step 8 of the Practice Expense (PE) methodology calculation, we erroneously stated in the parenthetical note that unadjusted work RVUs are used to calculate the service level allocators for indirect practice expenses (PEs) in this final rule.

On pages 69636 and 69637, in Table 1, “Calculation of PE RVUs under Methodology For Selected Codes”, we found numerous errors that include amounts and row headings.

On page 69640, under the discussion titled, “(4) Indirect PE RVUs Methodology” in the last sentence of the first response concerning the use of budget-neutralized work RVUs, we erroneously stated that we did not use the budget-neutralized work RVUs to calculate indirect PE.

On page 69646, clarifying language was inadvertently omitted from the response.

On page 69654, in Table 6, “Practice Expense Equipment Item Additions for CY 2007”, one of the equipment items is misspelled.

On page 69692, the word “a” was inadvertently omitted from a response.

On page 69694, the word “receiving” was erroneously omitted from a response.

On pages 69741 through 69743, in Table 15, “AMA RUC and HCPAC recommendations and CMS' Decisions for New and Revised 2007 CPT Codes,” the title of the last column “2006 work RVUs” is incorrect.

On page 69744, in Table 16, “AMA RUC Anesthesia Recommendations and CMS Decisions for New and Revised CPT codes”, the RUC-recommended base value for CPT code 00626 is incorrect.

On page 69744, under section E. “Discussion of Codes for Which There Were No RUC recommendations or For Which the RUC Recommendations Were Not Accepted”, we inadvertently omitted the discussion related to CPT code 15830.

On page 69747, we incorrectly stated that pricing information for an item was not provided.

On page 69760, in section B “Anesthesia Fee Schedule Conversion Factor,” the discussion concerning the adjustment factor in Table 32 did not address all the included adjustments. In addition, Table 32 did not reflect the additional adjustment.

On page 69768, in Table 35, a footnote was inadvertently omitted.

On page 69770, in Table 36, a footnote was inadvertently omitted.

These corrections are reflected in section III.A. of this correction notice.

B. Addenda

The following errors in Addenda B and C are revised under this correction notice. These addenda will not appear in the Code of Federal Regulations.

In Addendum B, pages 69796 through 70011, we are making the following corrections:

(1) An indicator “+” denoting that the published RVUs are not used was omitted from the following Physicians' Current Procedural Terminology (CPT) or alphanumeric Healthcare Procedure Coding System (HCPCS) codes:

• 11000: 11975, 11977;

• 15000: 15850;

• 37000: 37216;

• 38000: 38204, 38207, 38208, 38209, 38210, 38211, 38212, 38213, 38214, 38215;

• 43000: 43842;

• 58000: 58300;

• 61000: 61630, 61635, 61640, 61641, 61642;

• 72000: 72159, 72159-TC, 72159-26;

• 73000: 73225, 73225-TC, 73225-26;

• 76000: 76390, 76390-TC, 76390-26;

• 78000: 78350, 78350-TC, 78350-26, 78351, 78890, 78890-TC, 78890-26, 78891, 78891-TC, 78891-26;

• 90000: 90875, 90876, 90885, 90887, 90918, 90919, 90920, 90921, 90922, 90923, 90924, 90925;

• 92000: 92015, 92310, 92314, 92340, 92341, 92342, 92352, 92353, 92354, 92355, 92358, 92370, 92371, 92551;

• 93000: 93668, 93740, 93740-TC, 93740-26, 93770, 93770-TC, 93770-26;

• 94000: 94005, 94150, 94150-TC, 94150-26;

• 96000: 96040, 96155, 96902;

• 97000: 97010, 97014, 97810, 97811, 97813, 97814;

• 98000: 98943, 98960, 98961, 98962;

• 99000: 99091, 99173, 99339, 99340, 99358, 99359, 99360, 99363, 99364, 99374, 99375, 99377, 99378, 99379, 99380, 99381, 99382, 99383, 99384, 99385, 99386, 99387, 99391, 99392, 99393, 99394, 99395, 99396, 99397, 99401, 99402, 99403, 99404, 99411, 99412, 99420;

• G codes: G0122, G0122-TC, G0122-26, G0252-26, G0337.

(2) Incorrect RVUs were listed for the following CPT codes: 38207, 38210, 38211, 38212, 38213, 38214, and 38215.

(3) Incorrect practice expense RVUs were listed for the following CPT and HCPCS codes: 73223, 73323-TC, 76775, 76775-TC, 76775-26, 95060, 95065, G0389, G0389-TC, G0389-26, G0392, and G0393.

(4) Incorrect status indicators and RVUs were listed for CPT codes 93235, 93624, and 93624-TC.

In Addendum C, page 70015, an indicator “+” denoting that the published RVUs are not used was omitted from the following Physicians' Current Procedural Terminology (CPT) or alphanumeric Healthcare Procedure Coding System (HCPCS) codes:

• 90000: 94005, 96040, 99363, and 99364.

These corrections are reflected in section III.B. of this correction notice.

III. Correction of Errors

A. Correction of Errors in the Preamble

1. On page 69634, in the 2nd column, in the 8th full paragraph, lines 11 through 13, in step 8 of the PE methodology calculation, the sentence “In this final rule, unadjusted work RVUs are used” is removed.

2. On pages 69636 through 69637, in Table 1: Calculation of PE RVUs under Methodology for Selected Codes, the table is corrected to read as follows:

BILLING CODE 4120-01-P

BILLING CODE 4120-01-C

3. On page 69640, in the 2nd column, the 1st full paragraph, the response beginning with the phrase “As discussed in section III.D.3. of this final rule with comment period * * *” and ending with the phrase “* * * budget-neutralized work RVUs to calculate indirect PE” is corrected to read as follows:

“As discussed elsewhere in this rule, we do not believe it would be appropriate to allow the increases in work RVUs for certain services as a result of the 5-Year Review to reduce aggregate payments for PEs and professional liability under the Medicare PFS. Our final policy to use the budget-neutralized work RVUs in the calculation of indirect PEs appropriately maintains the current relationships between the work, PE, and professional liability (malpractice insurance expense) components of the PFS. We also believe it is important to apply the revised, budget-neutralized work RVUs consistently within the PFS framework. It would not be consistent to apply one set of work RVUs for work payments, but a different set for purposes of calculating indirect PEs. Therefore, we will base the calculation of both the work payments and the indirect PEs on the revised, budget-neutralized work RVUs adopted as part of this final rule, and maintain the overall current relationships between work, PE, and professional liability. The PE RVUs in Addendum B and throughout the rest of this rule reflect this policy.”

4. On page 69646, in the 2nd column, the 4th full paragraph, the response “We will implement these changes for CY 2007” is corrected to read as follows: “We are implementing these changes for CY 2007. Because we are implementing the bottom-up methodology, which utilizes the direct inputs to determine the PE RVUs for CY 2007, a separate payment for the contrast media used in various imaging procedures will be available. In addition to the CPT code representing the imaging procedure, providers are instructed to use the appropriate HCPCS Q-code, Q9942 through Q9964, to separately bill for the contrast medium utilized in performing the service.”

5. On page 69654, in Table 6, Practice Expense Equipment Item Additions for CY 2007, column 2, line 16, the word “Acerine” is corrected to read “Aerocrine.”

6. On page 69692, in the 3rd column, 1st paragraph, line 10, the phrase “verified in large trial” is corrected to read as “verified in a large trial.”

7. On page 69694, in the 3rd column, 3rd paragraph, lines 8 through 9, the phrase “may also be FDA-approved” is corrected to read “may also be receiving FDA-approved.”

8. On pages 69741 through 69743, in Table 15, “AMA RUC and HCPAC recommendations and CMS” Decisions for New and Revised 2007 CPT Codes”, last column, the column heading, “2006 work RVU” is corrected to read “2007 work RVU”.

9. On page 69744, in Table 16: AMA RUC Anesthesia Recommendations and CMS Decisions for New and Revised CPT Codes, column 3 (RUC-recommendation), line 2 (CPT code 00626), the value “13.00” is corrected to read “15.00.”

10. On page 69744, in the 1st column, after the 2nd full paragraph following the table, after the sentence “This summary refers only to work RVUs” and before the sentence beginning “For CPT code 22857 * * * ” the following paragraph is added to read as follows:

“For CPT code 15830, Excision, excessive skin and subcutaneous tissue (includes lipectomy); abdomen, infraumbilical panniculectomy, the RUC recommended 15.60 work RVUs. We reviewed the summary of recommendations for an add-on procedure to CPT code 15830, CPT code 15847, Excision, excessive skin and subcutaneous tissue (includes lipectomy); abdomen (eg, abdominoplasty) (includes umbilical transposition and fascial pilcation (List separately in addition to code for primary procedure), in which the RUC and the specialty society recommended that this code be carrier-priced to reduce the potential for abuse. In order to reduce the potential for abuse, we believe that, payment for CPT code 15830 should be similarly restricted and medical necessity should be established prior to payment. Therefore, we have assigned a status indicator of “R” (Restricted) to this code.”

11. On page 69747, in the 3rd column, 1st paragraph, lines 2 through 5, the sentence “We were not able to include a price for the pedigree software equipment as it was not provided with the PE inputs” is corrected to read as “We included a price of $950 for the pedigree software desktop version as the typical equipment used in a physician office.”

12. On page 69760,

a. In the 3rd column, 1st full paragraph, lines 10 through 12, the sentence “The adjustment factor in Table 32 includes the combined effect of the PE adjustment and the BN adjustment” is corrected to read “The adjustment factor in Table 32 includes the combined effect of the PE adjustment, the BN adjustment and the adjustment to anesthesia work to account for the increase in the work of the E/M codes.”

b. In the 3rd column, Table 32 is corrected as follows:

Table 32
2006 Anesthesia Conversion Factor | $17.7663
2007 Update | −5.0 percent (0.94953)
2007 Combined Adjustment PE and BN | 0.9110
2007 Anesthesia Conversion Factor | $15.3682

13. On page 69768, Table 35 is corrected by adding a footnote to read as follows:

“**Components may not sum due to rounding error.”

14. On page 69770, Table 36 is corrected by adding a footnote to read as follows:

“Note: When applying the 0.8994 work adjuster to the work relative values printed in Addendum B, you must round the product to two decimal places.”

B. Addenda

1. On pages 69796 through 70011, in Addendum B: Relative Value Units (RVUs) And Related Information the following entries are corrected to read as follows:

Addendum B.—Relative Value Units (RVUs) and Related Information—Corrections
CPT ¹/HCPCS ² | Mod | Status | Description | Physician work RVUs ³ | Fully implemented non-facility PE RVUs | Year 2007 transitional non-facility PE RVUs | Fully implemented facility PE RVUs | Year 2007 transitional facility PE RVUs | Malpractice RVUs | Fully implemented non-facility total | Year 2007 transitional non-facility total | Fully implemented facility total | Year 2007 transitional facility total | Global
11975 |  | N | Insert contraceptive cap | 1.48+ | 1.52 | 1.45 | 0.34 | 0.51 | 0.17 | 3.17 | 3.10 | 1.99 | 2.16 | XXX
11977 |  | N | Removal/reinsert contra cap | 3.30+ | 1.97 | 2.20 | 0.76 | 1.14 | 0.37 | 5.64 | 5.87 | 4.43 | 4.81 | XXX
15850 |  | B | Removal of sutures | 0.78+ | 1.19 | 1.47 | 0.18 | 0.27 | 0.05 | 2.02 | 2.30 | 1.01 | 1.10 | XXX
37216 |  | N | Transcath stent, cca w/o eps | 18.85+ | NA | NA | 5.75 | 8.05 | 1.04 | NA | NA | 25.64 | 27.94 | 090
38204 |  | B | Bl donor search management | 2.00+ | 0.91 | 0.91 | 0.91 | 0.91 | 0.06 | 2.97 | 2.97 | 2.97 | 2.97 | XXX
38207 |  | I | Cryopreserve stem cells | 0.89+ | 0.41 | 0.41 | 0.41 | 0.41 | 0.01 | 1.31 | 1.31 | 1.31 | 1.31 | XXX
38208 |  | I | Thaw preserved stem cells | 0.56+ | 0.25 | 0.25 | 0.25 | 0.25 | 0.02 | 0.83 | 0.83 | 0.83 | 0.83 | XXX
38209 |  | I | Wash harvest stem cells | 0.24+ | 0.11 | 0.11 | 0.11 | 0.11 | 0.01 | 0.36 | 0.36 | 0.36 | 0.36 | XXX
38210 |  | I | T-cell depletion of harvest | 1.57+ | 0.72 | 0.72 | 0.72 | 0.72 | 0.03 | 2.32 | 2.32 | 2.32 | 2.32 | XXX
38211 |  | I | Tumor cell deplete of harvst | 1.42+ | 0.65 | 0.65 | 0.65 | 0.65 | 0.02 | 2.09 | 2.09 | 2.09 | 2.09 | XXX
38212 |  | I | Rbc depletion of harvest | 0.94+ | 0.43 | 0.43 | 0.43 | 0.43 | 0.02 | 1.39 | 1.39 | 1.39 | 1.39 | XXX
38213 |  | I | Platelet deplete of harvest | 0.24+ | 0.11 | 0.11 | 0.11 | 0.11 | 0.01 | 0.36 | 0.36 | 0.36 | 0.36 | XXX
38214 |  | I | Volume deplete of harvest | 0.81+ | 0.37 | 0.37 | 0.37 | 0.37 | 0.01 | 1.19 | 1.19 | 1.19 | 1.19 | XXX
38215 |  | I | Harvest stem cell concentrte | 0.94+ | 0.43 | 0.43 | 0.43 | 0.43 | 0.02 | 1.39 | 1.39 | 1.39 | 1.39 | XXX
43842 |  | N | V-band gastroplasty | 20.90+ | NA | NA | 6.75 | 7.53 | 2.45 | NA | NA | 30.10 | 30.88 | 090
58300 |  | N | Insert intrauterine device | 1.01+ | 0.62 | 1.22 | 0.23 | 0.34 | 0.12 | 1.75 | 2.35 | 1.36 | 1.47 | XXX
61630 |  | N | Intracranial angioplasty | 22.07+ | NA | NA | 6.44 | 10.98 | 2.02 | NA | NA | 30.53 | 35.07 | 090
61635 |  | N | Intracran angioplsty w/stent | 24.28+ | NA | NA | 6.95 | 11.89 | 2.21 | NA | NA | 33.44 | 38.38 | 090
61640 |  | N | Dilate ic vasospasm, init | 12.32+ | NA | NA | 2.85 | 2.85 | 0.71 | NA | NA | 15.88 | 15.88 | 000
61641 |  | N | Dilate ic vasospasm add-on | 4.33+ | NA | NA | 1.00 | 1.00 | 0.25 | NA | NA | 5.58 | 5.58 | ZZZ
61642 |  | N | Dilate ic vasospasm add-on | 8.66+ | NA | NA | 2.00 | 2.00 | 0.50 | NA | NA | 11.16 | 11.16 | ZZZ
72159 |  | N | Mr angio spine w/o&w/dye | 1.80+ | 14.49 | 13.31 | NA | NA | 0.74 | 17.03 | 15.85 | NA | NA | XXX
72159 | TC | N | Mr angio spine w/o&w/dye | 0.00+ | 14.07 | 12.69 | NA | NA | 0.64 | 14.71 | 13.33 | NA | NA | XXX
72159 | 26 | N | Mr angio spine w/o&w/dye | 1.80+ | 0.42 | 0.62 | 0.42 | 0.62 | 0.10 | 2.32 | 2.52 | 2.32 | 2.52 | XXX
73223 |  | A | Mri joint upr extr w/o&w/dye | 2.15 | 16.74 | 23.38 | NA | NA | 0.94 | 19.83 | 26.47 | NA | NA | XXX
73223 | 26 | A | Mri joint upr extr w/o&w/dye | 2.15 | 0.61 | 0.69 | 0.61 | 0.69 | 0.10 | 2.86 | 2.94 | 2.86 | 2.94 | XXX
73225 |  | N | Mr angio upr extr w/o&w/dye | 1.73+ | 14.47 | 12.38 | NA | NA | 0.69 | 16.89 | 14.80 | NA | NA | XXX
73225 | TC | N | Mr angio upr extr w/o&w/dye | 0.00+ | 14.07 | 11.78 | NA | NA | 0.59 | 14.66 | 12.37 | NA | NA | XXX
73225 | 26 | N | Mr angio upr extr w/o&w/dye | 1.73+ | 0.40 | 0.60 | 0.40 | 0.60 | 0.10 | 2.23 | 2.43 | 2.23 | 2.43 | XXX
76390 |  | N | Mr spectroscopy | 1.40+ | 9.31 | 10.94 | NA | NA | 0.66 | 11.37 | 13.00 | NA | NA | XXX
76390 | TC | N | Mr spectroscopy | 0.00+ | 8.99 | 10.51 | NA | NA | 0.59 | 9.58 | 11.10 | NA | NA | XXX
76390 | 26 | N | Mr spectroscopy | 1.40+ | 0.32 | 0.43 | 0.32 | 0.43 | 0.07 | 1.79 | 1.90 | 1.79 | 1.90 | XXX
76775 |  | A | Us exam abdo back wall, lim | 0.58 | 2.23 | 1.77 | NA | NA | 0.11 | 2.92 | 2.46 | NA | NA | XXX
76775 | TC | A | Us exam abdo back wall, lim | 0.00 | 2.06 | 1.58 | NA | NA | 0.08 | 2.14 | 1.66 | NA | NA | XXX
76775 | 26 | A | Us exam abdo back wall, lim | 0.58 | 0.17 | 0.19 | 0.17 | 0.19 | 0.03 | 0.78 | 0.80 | 0.78 | 0.80 | XXX
78350 |  | N | Bone mineral, single photon | 0.22+ | 0.00 | 0.82 | NA | NA | 0.06 | 0.28 | 1.10 | NA | NA | XXX
78350 | TC | N | Bone mineral, single photon | 0.00+ | 0.00 | 0.75 | NA | NA | 0.05 | 0.05 | 0.80 | NA | NA | XXX
78350 | 26 | N | Bone mineral, single photon | 0.22+ | 0.00 | 0.07 | 0.00 | 0.07 | 0.01 | 0.23 | 0.30 | 0.23 | 0.30 | XXX
78351 |  | N | Bone mineral, dual photon | 0.30+ | NA | NA | 0.07 | 0.11 | 0.01 | NA | NA | 0.38 | 0.42 | XXX
78890 |  | B | Nuclear medicine data proc | 0.05+ | 0.38 | 1.10 | NA | NA | 0.07 | 0.50 | 1.22 | NA | NA | XXX
78890 | TC | B | Nuclear medicine data proc | 0.00+ | 0.37 | 1.08 | NA | NA | 0.06 | 0.43 | 1.14 | NA | NA | XXX
78890 | 26 | B | Nuclear medicine data proc | 0.05+ | 0.01 | 0.02 | 0.01 | 0.02 | 0.01 | 0.07 | 0.08 | 0.07 | 0.08 | XXX
78891 |  | B | Nuclear med data proc | 0.10+ | 0.86 | 2.22 | NA | NA | 0.14 | 1.10 | 2.46 | NA | NA | XXX
78891 | TC | B | Nuclear med data proc | 0.00+ | 0.84 | 2.18 | NA | NA | 0.13 | 0.97 | 2.31 | NA | NA | XXX
78891 | 26 | B | Nuclear med data proc | 0.10+ | 0.02 | 0.04 | 0.02 | 0.04 | 0.01 | 0.13 | 0.15 | 0.13 | 0.15 | XXX
90875 |  | N | Psychophysiological therapy | 1.20+ | 0.52 | 0.81 | 0.28 | 0.42 | 0.04 | 1.76 | 2.05 | 1.52 | 1.66 | XXX
90876 |  | N | Psychophysiological therapy | 1.90+ | 0.67 | 1.04 | 0.44 | 0.66 | 0.05 | 2.62 | 2.99 | 2.39 | 2.61 | XXX
90885 |  | B | Psy evaluation of records | 0.97+ | 0.22 | 0.33 | 0.22 | 0.33 | 0.02 | 1.21 | 1.32 | 1.21 | 1.32 | XXX
90887 |  | B | Consultation with family | 1.48+ | 0.61 | 0.77 | 0.34 | 0.51 | 0.04 | 2.13 | 2.29 | 1.86 | 2.03 | XXX
90918 |  | I | ESRD related services, month | 11.16+ | 4.68 | 5.75 | 3.74 | 5.52 | 0.36 | 16.20 | 17.27 | 15.26 | 17.04 | XXX
90919 |  | I | ESRD related services, month | 8.53+ | 3.02 | 3.76 | 2.55 | 3.64 | 0.29 | 11.84 | 12.58 | 11.37 | 12.46 | XXX
90920 |  | I | ESRD related services, month | 7.26+ | 2.73 | 3.50 | 2.27 | 3.38 | 0.23 | 10.22 | 10.99 | 9.76 | 10.87 | XXX
90921 |  | I | ESRD related services, month | 4.46+ | 1.70 | 2.26 | 1.61 | 2.23 | 0.14 | 6.30 | 6.86 | 6.21 | 6.83 | XXX
90922 |  | I | ESRD related services, day | 0.37+ | 0.16 | 0.20 | 0.12 | 0.19 | 0.01 | 0.54 | 0.58 | 0.50 | 0.57 | XXX
90923 |  | I | Esrd related services, day | 0.28+ | 0.10 | 0.12 | 0.08 | 0.12 | 0.01 | 0.39 | 0.41 | 0.37 | 0.41 | XXX
90924 |  | I | Esrd related services, day | 0.24+ | 0.09 | 0.11 | 0.08 | 0.11 | 0.01 | 0.34 | 0.36 | 0.33 | 0.36 | XXX
90925 |  | I | Esrd related services, day | 0.15+ | 0.05 | 0.07 | 0.05 | 0.07 | 0.01 | 0.21 | 0.23 | 0.21 | 0.23 | XXX
92015 |  | N | Refraction | 0.38+ | 0.10 | 1.14 | 0.09 | 0.14 | 0.01 | 0.49 | 1.53 | 0.48 | 0.53 | XXX
92310 |  | N | Contact lens fitting | 1.17+ | 1.05 | 1.10 | 0.27 | 0.41 | 0.04 | 2.26 | 2.31 | 1.48 | 1.62 | XXX
92314 |  | N | Prescription of contact lens | 0.69+ | 1.13 | 0.99 | 0.16 | 0.24 | 0.01 | 1.83 | 1.69 | 0.86 | 0.94 | XXX
92340 |  | N | Fitting of spectacles | 0.37+ | 0.44 | 0.64 | 0.08 | 0.13 | 0.01 | 0.82 | 1.02 | 0.46 | 0.51 | XXX
92341 |  | N | Fitting of spectacles | 0.47+ | 0.46 | 0.67 | 0.11 | 0.16 | 0.01 | 0.94 | 1.15 | 0.59 | 0.64 | XXX
92342 |  | N | Fitting of spectacles | 0.53+ | 0.48 | 0.69 | 0.12 | 0.19 | 0.01 | 1.02 | 1.23 | 0.66 | 0.73 | XXX
92352 |  | B | Special spectacles fitting | 0.37+ | 0.56 | 0.65 | 0.08 | 0.13 | 0.01 | 0.94 | 1.03 | 0.46 | 0.51 | XXX
92353 |  | B | Special spectacles fitting | 0.50+ | 0.59 | 0.70 | 0.12 | 0.17 | 0.02 | 1.11 | 1.22 | 0.64 | 0.69 | XXX
92354 |  | B | Special spectacles fitting | 0.00+ | 0.28 | 6.72 | NA | NA | 0.10 | 0.38 | 6.82 | NA | NA | XXX
92355 |  | B | Special spectacles fitting | 0.00+ | 0.44 | 3.36 | NA | NA | 0.01 | 0.45 | 3.37 | NA | NA | XXX
92358 |  | B | Eye prosthesis service | 0.00+ | 0.23 | 0.79 | NA | NA | 0.05 | 0.28 | 0.84 | NA | NA | XXX
92370 |  | N | Repair & adjust spectacles | 0.32+ | 0.39 | 0.51 | 0.07 | 0.12 | 0.02 | 0.73 | 0.85 | 0.41 | 0.46 | XXX
92371 |  | B | Repair & adjust spectacles | 0.00+ | 0.24 | 0.53 | NA | NA | 0.02 | 0.26 | 0.55 | NA | NA | XXX
92551 |  | N | Pure tone hearing test, air | 0.00+ | 0.25 | 0.25 | NA | NA | 0.01 | 0.26 | 0.26 | NA | NA | XXX
93235 |  | C | ECG monitor/report, 24 hrs | 0.00 | 0.00 | 0.00 | NA | NA | 0.00 | 0.00 | 0.00 | NA | NA | XXX
93624 |  | C | Electrophysiologic evaluation | 0.00 | 0.00 | 0.00 | 0.00 | 0.00 | 0.00 | 0.00 | 0.00 | 0.00 | 0.00 | 000
93624 | TC | C | Electrophysiologic evaluation | 0.00 | 0.00 | 0.00 | 0.00 | 0.00 | 0.00 | 0.00 | 0.00 | 0.00 | 0.00 | 000
93668 |  | N | Peripheral vascular rehab | 0.00+ | 0.40 | 0.40 | NA | NA | 0.01 | 0.41 | 0.41 | NA | NA | XXX
93740 |  | B | Temperature gradient studies | 0.16+ | 0.04 | 0.15 | NA | NA | 0.02 | 0.22 | 0.33 | NA | NA | XXX
93740 | TC | B | Temperature gradient studies | 0.00+ | 0.00 | 0.11 | NA | NA | 0.01 | 0.01 | 0.12 | NA | NA | XXX
93740 | 26 | B | Temperature gradient studies | 0.16+ | 0.04 | 0.04 | 0.04 | 0.04 | 0.01 | 0.21 | 0.21 | 0.21 | 0.21 | XXX
93770 |  | B | Measure venous pressure | 0.16+ | 0.04 | 0.07 | NA | NA | 0.02 | 0.22 | 0.25 | NA | NA | XXX
93770 | TC | B | Measure venous pressure | 0.00+ | 0.00 | 0.02 | NA | NA | 0.01 | 0.01 | 0.03 | NA | NA | XXX
93770 | 26 | B | Measure venous pressure | 0.16+ | 0.04 | 0.05 | 0.04 | 0.05 | 0.01 | 0.21 | 0.22 | 0.21 | 0.22 | XXX
94005 |  | B | Home vent mgmt supervision | 1.50+ | 0.69 | 0.69 | NA | NA | 0.06 | 2.25 | 2.25 | NA | NA | XXX
94150 |  | B | Vital capacity test | 0.07+ | 0.48 | 0.48 | NA | NA | 0.02 | 0.57 | 0.57 | NA | NA | XXX
94150 | TC | B | Vital capacity test | 0.00+ | 0.46 | 0.45 | NA | NA | 0.01 | 0.47 | 0.46 | NA | NA | XXX
94150 | 26 | B | Vital capacity test | 0.07+ | 0.02 | 0.03 | 0.02 | 0.03 | 0.01 | 0.10 | 0.11 | 0.10 | 0.11 | XXX
95060 |  | A | Eye allergy tests | 0.00 | 0.72 | 0.44 | 0.72 | 0.44 | 0.02 | 0.74 | 0.46 | 0.74 | 0.46 | XXX
95065 |  | A | Nose allergy test | 0.00 | 0.65 | 0.31 | 0.65 | 0.31 | 0.01 | 0.66 | 0.32 | 0.66 | 0.32 | XXX
96040 |  | B | Genetic counseling, 30 min | 0.00+ | 0.97 | 0.97 | NA | NA | 0.01 | 0.98 | 0.98 | NA | NA | XXX
96155 |  | N | Interv hlth/behav fam no pt | 0.44+ | 0.10 | 0.16 | 0.10 | 0.15 | 0.02 | 0.56 | 0.62 | 0.56 | 0.61 | XXX
96902 |  | B | Trichogram | 0.41+ | 0.11 | 0.16 | 0.10 | 0.15 | 0.01 | 0.53 | 0.58 | 0.52 | 0.57 | XXX
97010 |  | B | Hot or cold packs therapy | 0.06+ | 0.07 | 0.06 | NA | NA | 0.01 | 0.14 | 0.13 | NA | NA | XXX
97014 |  | I | Electric stimulation therapy | 0.18+ | 0.18 | 0.19 | NA | NA | 0.01 | 0.37 | 0.38 | NA | NA | XXX
97810 |  | N | Acupunct w/o stimul 15 min | 0.60+ | 0.26 | 0.35 | 0.14 | 0.21 | 0.03 | 0.89 | 0.98 | 0.77 | 0.84 | XXX
97811 |  | N | Acupunct w/o stimul addl 15m | 0.50+ | 0.15 | 0.23 | 0.12 | 0.17 | 0.03 | 0.68 | 0.76 | 0.65 | 0.70 | ZZZ
97813 |  | N | Acupunct w/stimul 15 min | 0.65+ | 0.27 | 0.37 | 0.15 | 0.23 | 0.03 | 0.95 | 1.05 | 0.83 | 0.91 | XXX
97814 |  | N | Acupunct w/stimul addl 15m | 0.55+ | 0.19 | 0.27 | 0.13 | 0.19 | 0.03 | 0.77 | 0.85 | 0.71 | 0.77 | ZZZ
98943 |  | N | Chiropractic manipulation | 0.40+ | 0.17 | 0.22 | 0.09 | 0.14 | 0.01 | 0.58 | 0.63 | 0.50 | 0.55 | XXX
98960 |  | B | Self-mgmt educ & train, 1 pt | 0.00+ | 0.48 | 0.48 | 0.00 | 0.00 | 0.01 | 0.49 | 0.49 | 0.01 | 0.01 | XXX
98961 |  | B | Self-mgmt educ/train, 2-4 pt | 0.00+ | 0.23 | 0.23 | 0.00 | 0.00 | 0.01 | 0.24 | 0.24 | 0.01 | 0.01 | XXX
98962 |  | B | Self-mgmt educ/train, 5-8 pt | 0.00+ | 0.17 | 0.17 | 0.00 | 0.00 | 0.01 | 0.18 | 0.18 | 0.01 | 0.01 | XXX
99091 |  | B | Collect/review data from pt | 1.10+ | 0.25 | 0.25 | NA | NA | 0.04 | 1.39 | 1.39 | NA | NA | XXX
99173 |  | N | Visual acuity screen | 0.00+ | 0.06 | 0.06 | NA | NA | 0.01 | 0.07 | 0.07 | NA | NA | XXX
99339 |  | B | Domicil/r-home care supervis | 1.25+ | 0.58 | 0.58 | NA | NA | 0.06 | 1.89 | 1.89 | NA | NA | XXX
99340 |  | B | Domicil/r-home care supervis | 1.80+ | 0.76 | 0.76 | NA | NA | 0.07 | 2.63 | 2.63 | NA | NA | XXX
99358 |  | B | Prolonged serv, w/o contact | 2.10+ | 0.51 | 0.51 | 0.51 | 0.51 | 0.09 | 2.70 | 2.70 | 2.70 | 2.70 | ZZZ
99359 |  | B | Prolonged serv, w/o contact | 1.00+ | 0.26 | 0.26 | 0.26 | 0.26 | 0.04 | 1.30 | 1.30 | 1.30 | 1.30 | ZZZ
99360 |  | X | Physician standby services | 1.20+ | 0.00 | 0.00 | 0.00 | 0.00 | 0.05 | 1.25 | 1.25 | 1.25 | 1.25 | XXX
99363 |  | B | Anticoag mgmt, init | 1.65+ | 1.29 | 1.29 | 0.38 | 0.38 | 0.07 | 3.01 | 3.01 | 2.10 | 2.10 | XXX
99364 |  | B | Anticoag mgmt, subseq | 0.63+ | 0.38 | 0.38 | 0.15 | 0.15 | 0.04 | 1.05 | 1.05 | 0.82 | 0.82 | XXX
99374 |  | B | Home health care supervision | 1.10+ | 0.54 | 0.66 | 0.25 | 0.38 | 0.05 | 1.69 | 1.81 | 1.40 | 1.53 | XXX
99375 |  | I | Home health care supervision | 1.73+ | 0.75 | 1.35 | 0.40 | 1.26 | 0.07 | 2.55 | 3.15 | 2.20 | 3.06 | XXX
99377 |  | B | Hospice care supervision | 1.10+ | 0.54 | 0.66 | 0.25 | 0.38 | 0.05 | 1.69 | 1.81 | 1.40 | 1.53 | XXX
99378 |  | I | Hospice care supervision | 1.73+ | 0.75 | 1.64 | 0.40 | 1.56 | 0.07 | 2.55 | 3.44 | 2.20 | 3.36 | XXX
99379 |  | B | Nursing fac care supervision | 1.10+ | 0.54 | 0.66 | 0.25 | 0.38 | 0.04 | 1.68 | 1.80 | 1.39 | 1.52 | XXX
99380 |  | B | Nursing fac care supervision | 1.73+ | 0.75 | 0.93 | 0.40 | 0.60 | 0.06 | 2.54 | 2.72 | 2.19 | 2.39 | XXX
99381 |  | N | Init pm e/m, new pat, inf | 1.19+ | 0.99 | 1.37 | 0.27 | 0.41 | 0.05 | 2.23 | 2.61 | 1.51 | 1.65 | XXX
99382 |  | N | Init pm e/m, new pat 1-4 yrs | 1.36+ | 1.03 | 1.41 | 0.31 | 0.47 | 0.05 | 2.44 | 2.82 | 1.72 | 1.88 | XXX
99383 |  | N | Prev visit, new, age 5-11 | 1.36+ | 1.02 | 1.37 | 0.31 | 0.47 | 0.05 | 2.43 | 2.78 | 1.72 | 1.88 | XXX
99384 |  | N | Prev visit, new, age 12-17 | 1.53+ | 1.06 | 1.43 | 0.35 | 0.53 | 0.06 | 2.65 | 3.02 | 1.94 | 2.12 | XXX
99385 |  | N | Prev visit, new, age 18-39 | 1.53+ | 1.06 | 1.43 | 0.35 | 0.53 | 0.06 | 2.65 | 3.02 | 1.94 | 2.12 | XXX
99386 |  | N | Prev visit, new, age 40-64 | 1.88+ | 1.14 | 1.59 | 0.43 | 0.65 | 0.07 | 3.09 | 3.54 | 2.38 | 2.60 | XXX
99387 |  | N | Init pm e/m, new pat 65+ yrs | 2.06+ | 1.27 | 1.72 | 0.48 | 0.71 | 0.07 | 3.40 | 3.85 | 2.61 | 2.84 | XXX
99391 |  | N | Per pm reeval, est pat, inf | 1.02+ | 0.86 | 0.98 | 0.24 | 0.35 | 0.04 | 1.92 | 2.04 | 1.30 | 1.41 | XXX
99392 |  | N | Prev visit, est, age 1-4 | 1.19+ | 0.89 | 1.04 | 0.27 | 0.41 | 0.05 | 2.13 | 2.28 | 1.51 | 1.65 | XXX
99393 |  | N | Prev visit, est, age 5-11 | 1.19+ | 0.89 | 1.02 | 0.27 | 0.41 | 0.05 | 2.13 | 2.26 | 1.51 | 1.65 | XXX
99394 |  | N | Prev visit, est, age 12-17 | 1.36+ | 0.93 | 1.08 | 0.31 | 0.47 | 0.05 | 2.34 | 2.49 | 1.72 | 1.88 | XXX
99395 |  | N | Prev visit, est, age 18-39 | 1.36+ | 0.93 | 1.10 | 0.31 | 0.47 | 0.05 | 2.34 | 2.51 | 1.72 | 1.88 | XXX
99396 |  | N | Prev visit, est, age 40-64 | 1.53+ | 0.97 | 1.18 | 0.35 | 0.53 | 0.06 | 2.56 | 2.77 | 1.94 | 2.12 | XXX
99397 |  | N | Per pm reeval est pat 65+ yr | 1.71+ | 1.11 | 1.30 | 0.40 | 0.60 | 0.06 | 2.88 | 3.07 | 2.17 | 2.37 | XXX
99401 |  | N | Preventive counseling, indiv | 0.48+ | 0.36 | 0.56 | 0.11 | 0.17 | 0.01 | 0.85 | 1.05 | 0.60 | 0.66 | XXX
99402 |  | N | Preventive counseling, indiv | 0.98+ | 0.47 | 0.77 | 0.23 | 0.34 | 0.02 | 1.47 | 1.77 | 1.23 | 1.34 | XXX
99403 |  | N | Preventive counseling, indiv | 1.46+ | 0.58 | 0.96 | 0.34 | 0.51 | 0.04 | 2.08 | 2.46 | 1.84 | 2.01 | XXX
99404 |  | N | Preventive counseling, indiv | 1.95+ | 0.70 | 1.17 | 0.45 | 0.68 | 0.05 | 2.70 | 3.17 | 2.45 | 2.68 | XXX
99411 |  | N | Preventive counseling, group | 0.15+ | 0.22 | 0.19 | 0.03 | 0.05 | 0.01 | 0.38 | 0.35 | 0.19 | 0.21 | XXX
99412 |  | N | Preventive counseling, group | 0.25+ | 0.24 | 0.25 | 0.06 | 0.09 | 0.01 | 0.50 | 0.51 | 0.32 | 0.35 | XXX
99420 |  | N | Health risk assessment test | 0.00+ | 0.22 | 0.22 | NA | NA | 0.01 | 0.23 | 0.23 | NA | NA | XXX
G0122 |  | N | Colon ca scrn; barium enema | 0.99+ | 5.58 | 3.32 | NA | NA | 0.18 | 6.75 | 4.49 | NA | NA | XXX
G0122 | TC | N | Colon ca scrn; barium enema | 0.00+ | 5.35 | 2.98 | NA | NA | 0.13 | 5.48 | 3.11 | NA | NA | XXX
G0122 | 26 | N | Colon ca scrn; barium enema | 0.99+ | 0.23 | 0.34 | 0.23 | 0.34 | 0.05 | 1.27 | 1.38 | 1.27 | 1.38 | XXX
G0252 | 26 | N | PET imaging initial dx | 1.50+ | 0.00 | 0.60 | 0.00 | 0.60 | 0.04 | 1.54 | 2.14 | 1.54 | 2.14 | XXX
G0337 |  | X | Hospice evaluation preelecti | 1.34+ | 0.31 | 0.46 | 0.31 | 0.46 | 0.09 | 1.74 | 1.89 | 1.74 | 1.89 | XXX
G0389 |  | A | Ultrasound exam AAA screen | 0.58 | 2.23 | 1.77 | NA | NA | 0.11 | 2.92 | 2.46 | NA | NA | XXX
G0389 | TC | A | Ultrasound exam AAA screen | 0.00 | 2.06 | 1.58 | NA | NA | 0.08 | 2.14 | 1.66 | NA | NA | XXX
G0389 | 26 | A | Ultrasound exam AAA screen | 0.58 | 0.17 | 0.19 | 0.17 | 0.19 | 0.03 | 0.78 | 0.80 | 0.78 | 0.80 | XXX
G0392 |  | A | AV fistula or graft arterial | 9.48 | 47.48 | 53.95 | 3.25 | 3.48 | 0.62 | 57.58 | 64.05 | 13.35 | 13.58 | 000
G0393 |  | A | AV fistula or graft venous | 6.03 | 35.61 | 42.45 | 1.97 | 2.26 | 0.34 | 41.98 | 48.82 | 8.34 | 8.63 | 000
¹ CPT codes and descriptions only are copyright 2006 American Medical Association. All Rights Reserved. Applicable FARS/DFARS Apply.
² Copyright 2006 American Dental Association. All rights reserved.
³ + Indicates RVUs are not used for Medicare payment.

2. On page 70015, in Addendum C: Codes with Interim RVUs the following entries are corrected to read as follows:

Addendum C.— Codes With Interim RVUs—Corrections
CPT ¹/HCPCS ² | Mod | Status | Description | Physician work RVUs³ | Fully implemented non-facility PE RVUs | Year 2007 transitional non-facility PE RVUs | Fully implemented facility PE RVUs | Year 2007 transitional facility PE RVUs | Malpractice RVUs | Fully implemented non-facility total | Year 2007 transitional non-facility total | Fully implemented facility total | Year 2007 transitional facility total | Global
94005 |  | B | Home vent mgmt supervision | 1.50+ | 0.69 | 0.69 | NA | NA | 0.06 | 2.25 | 2.25 | NA | NA | XXX
96040 |  | B | Genetic counseling, 30 min | 0.00+ | 0.97 | 0.97 | NA | NA | 0.01 | 0.98 | 0.98 | NA | NA | XXX
99363 |  | B | Anticoag mgmt, init | 1.65+ | 1.29 | 1.29 | 0.38 | 0.38 | 0.07 | 3.01 | 3.01 | 2.10 | 2.10 | XXX
99364 |  | B | Anticoag mgmt, subseq | 0.63+ | 0.38 | 0.38 | 0.15 | 0.15 | 0.04 | 1.05 | 1.05 | 0.82 | 0.82 | XXX
¹ CPT codes and descriptions only are copyright 2006 American Medical Association. All Rights Reserved. Applicable FARS/DFARS Apply.
² Copyright 2006 American Dental Association. All rights reserved.
³ + Indicates RVUs are not used for Medicare payment.

IV. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the rule.

Section 553(d) for the APA ordinarily requires a 30-day delay in effective date of final rules after the date of their publication. This 30-day delay in effective date can be waived, however, if an agency finds for good cause that the delay is impracticable, unnecessary, or contrary to the public interest, and the agency incorporates a statement of the findings and its reasons in the rule issued.

This correction notice addresses technical errors and omissions made in FR Doc. 06-9086, entitled “Medicare Program; Revisions to Payment Policies, Five-Year Review of Work Relative Value Units, and changes to the Practice Expense Methodology Under the Physician Fee Schedule, and Other Changes to Payment Under Part B; Revisions to the Payment Policies of Ambulance Services Under the Fee Schedule for Ambulance Services; Ambulance Inflation Factor Update for CY 2007,” which appeared in the December 1, 2006 Federal Register (71 FR 69624), and is effective January 1, 2007. The provisions of this final rule with comment period have been previously subjected to notice and comment procedures. These corrections are consistent with the discussion and text of the final rule with comment period, and do not make substantive changes to the CY 2007 published rule. As such, this correction notice is intended to ensure the CY 2007 final rule with comment period accurately reflects the policies adopted in that rule. Therefore, we find that undertaking further notice and comment procedures to incorporate these corrections into the final rule with comment is unnecessary and contrary to the public interest.

For the same reasons, we are also waiving the 30-day delay in effective date for this correction notice. We believe that it is in the public interest to ensure that the CY 2007 final rule with comment period accurately states our policies relating to the PFS and other Part B payment policies. Therefore, delaying the effective date of these corrections beyond the January 1, 2007 effective date of the final rule with comment period would be contrary to the public interest. In so doing, we find good cause to waive the 30-day delay in the effective date.

(Catalog of Federal Domestic Assistance Program No. 93.774, Medicare—Supplementary Medical Insurance Program)

Dated: November 30, 2006.
Ann C. Agnew,
Executive Secretary to the Department.

[FR Doc. 06-9550 Filed 12-4-06; 9:46 am]

BILLING CODE 4120-01-M